DEPARTMENT OF THE INTERIOR

National Park Service

Notice of Intent To Prepare an Environmental Impact Statement for the North Shore Road in Great Smoky Mountains National Park

SUMMARY: In accordance with section 102(2)(C) of the National Environmental Policy Act (42 U.S.C. 4321 et seq.), the National, Park Service (NPS) is preparing an Environmental Impact Statement (EIS) to analyze alternatives for resolving issues related to the North Shore Road. The purpose of this action is to discharge and satisfy any obligations on the part of the United States that presently exist as the result of the Memorandum of Agreement of October 8, 1943, between the U.S. Department of Interior, Tennessee Valley Authority, Swain County, North Carolina, and the state of North Carolina. The public scoping process for this EIS has been initiated with issuance of this notice. The purpose of the scoping process is to elicit public comment regarding the full spectrum of public issues and concern, including a suitable range of alternatives, the nature and extent of potential environmental impacts, and appropriate mitigation strategies, which should be addressed in the EIS process.

DATES: Beginning in the spring of 2003, public scoping meetings will be conducted in the vicinity of Great Smoky Mountains National Park. The location, date, and time of the meetings and deadlines for written comments will be announced via local and regional media as follows: The Smoky Mountain Times, Bryson City, NC; The Cherokee One Feather, Cherokee, NC; The Mountaineer, Waynesville, NC; The Sylva Herald, Sylva, NC; Asheville Citizen Times, Asheville, NC; The Smoky News, Waynesville, NC; The Mountain Press, Sevierville, TN; The Knoxville News-Sentinel, Knoxville, TN; The Daily Times, Maryville, TN; and other major newspapers in Alabama, Georgia, Florida, Kentucky, Indiana, Illinois, Mississippi, North Carolina, Ohio, South Carolina and Tennessee. Announcements will also be placed on the following Web sites: www.nps.gov\grsm and www.efl.fhwa.dot.gov. All interested individuals, organizations, and agencies are invited to attend these meetings to comment orally and/or provide written comments or suggestions during the scoping period.

ADDRESSES: Any comments or requests for information should be addressed to Superintendent, Great Smoky Mountains National Park, 107 Park Headquarters Road, Gatlinburg, TN 37738.

FOR FURTHER INFORMATION CONTACT: North Shore Road EIS, Attn: Superintendent, Great Smoky Mountains National Park, 107 Park Headquarters Road, Gatlinburg, TN 37738, Telephone: 865/436-1207 or Fax: 865/436-1220.

SUPPLEMENTARY INFORMATION: In July, 1943, the Tennessee Valley Authority (TVA), the U.S. Department of Interior (DOI), the state of North Carolina, and Swain County, North Carolina, entered into a Memorandum of Agreement (MOA) that dealt with the creation of Fontana Dam and Reservoir and the flooding of lands and roads within Swain County. As part of that agreement, 44,170 acres of land were ultimately transferred to the DOI and made part of the Great Smoky Mountains National Park (Park). The MOA also contained a provision by which the DOI was to construct a road through the Park, along the north shore of the newly formed Fontana Reservoir, to replace the flooded NC 288. The obligation of the DOI to construct the road was subject to and contingent on the appropriation by Congress of all funds necessary for the road's construction. The United States was at war when the MOA was executed and so no funds could be appropriated for construction. After the war, between 1948 and 1970, the DOI, through the National Park Service (NPS), built 7.2 miles of the proposed road. (Approximately 30 miles remain to be constructed.) During the early construction projects, it was discovered that the route of the proposed road was through very unstable terrain, resulting in the possibility of landslides, both during and after construction, and requiring more invasive engineering techniques than originally considered. In addition, a particular strata encountered (Anakeesta) will produce acidic drainage when disturbed if not properly handled and contained. Due to these environmental concerns and costs, construction was discontinued in 1972. In the succeeding years, several ideas and proposals were explored to recompense the state and county for the flooded lands and road, but no agreement was ever reached. An appropriation of $16 million was included in the 2001 Department of Transportation budget “for construction of, and improvements to, North Shore Road in Swain County, North Carolina.” The DOI is seeking to develop a plan that will discharge and settle any obligations that it is currently under as a result of the circumstances described here, fulfilling its obligations to the Park and public.

Recognizing that the National Environmental Policy Act (NEPA) requires the consideration of a reasonable range of alternatives that will address the purpose and need, the EIS will include a range of alternatives for detailed study. The alternatives will consist of a no-action alternative, as well as a variety of build and no-build alternatives that meet the purpose and need for the action. These alternatives will be developed, screened, and subjected to detailed analysis in the draft EIS based on their ability to address the purpose and need, while attempting to avoid known and sensitive resources.

Letters describing the proposed NEPA study and soliciting input will be sent to the appropriate federal, state and local agencies, which have expressed or are known to have an interest or legal role in this proposal. It is anticipated that a formal scoping meeting will be held as part of the NEPA process to facilitate local, state, and federal agency involvement. Private organizations, citizens, and interest groups will also have an opportunity to provide input into the development of the EIS and identify issues that should be addressed at the public scoping meetings. A comprehensive public participation program will be developed to involve the public throughout the project development process. This will include pubic meetings at key stages during the process, including the review of the draft EIS. The draft EIS will be available for public and agency review and comment prior to the public meetings/hearings. Its availability will be announced by Federal Register notice, regional and local media, Web site, and direct mailing to all those on the formal mailing list developed during the NEPA/Public Involvement Process. At this time, the draft North Shore Road EIS is anticipated to be available for public review in late 2004.

To ensure that the full range of issues related to this proposed action are identified and taken into account, comments and suggestions are invited from all interested parties. Comments and questions concerning this notice of proposed action, and when the draft environmental impact statement is available, should be directed to the NPS at the addresses provided under the caption FOR FURTHER INFORMATION CONTACT.

The public is advised that individual names and addresses may be included as part of the public record. Names and addresses will be available for public review during regular business hours. There are circumstances in which a person prefers to have their name and other information withheld from the public record. Any person wishing to do this must state this prominently at the beginning of any correspondence or comment, and the request will be honored to the extent allowable by law. All submissions from organizations or businesses, and from individuals identifying themselves as representatives or officials of organizations or businesses, will be placed on the public record and will be made available for public inspection in their entirety.

Dated: December 13, 2002.
Patricia A. Hooks,
Acting Regional Director, National Park Service.

[FR Doc. 03-10024 Filed 4-23-03; 8:45 am]

BILLING CODE 4310-70-M